DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps.

Dates and Times: September 8, 2005, 1 p.m.-7:30 p.m.; September 9, 2005, 8:30 a.m.-6 p.m.; and September 10, 2005, 9 a.m.-5:30 p.m.

Place: Hamilton Crowne Plaza, 1001 14th Street NW., Washington, DC 20005, 202-682-0111.

Status: The meeting will be open to the public.

Agenda: The Council will continue its discussion on the National Health Service Corps legislation in preparation for the upcoming reauthorization. Program staff and Agency management will provide guidance on program operations possible implications of legislative changes.

For Further Information Contact: Tira Robinson-Patterson, Division of National Health Service Corps, Bureau of Health Professions, Health Resources and Services Administration, Parklawn Building, Room 8A-55, 5600 Fishers Lane, Rockville, MD 20857; telephone: (301) 594-4140.

Dated: August 17, 2005.
Tina M. Cheatham,
Director, Division of Policy Review and Coordination.

[FR Doc. 05-16791 Filed 8-23-05; 8:45 am]

BILLING CODE 4165-15-P